DEPARTMENT OF COMMERCE

National Oceanic and Atmospheric Administration

Agency Information Collection Activities; Submission to the Office of Management and Budget (OMB) for Review and Approval; Comment Request; Type-Approval Requirements for Vessel Monitoring Systems

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 13, 2023 (88 FR 9255) during a 60-day comment period. This notice allows for an additional 30 days for public comments.

Agency: National Oceanic & Atmospheric Administration (NOAA), Commerce.

Title: Type-Approval Requirements for Vessel Monitoring Systems (VMS)

OMB Control Number: 0648-0789.

Form Number(s): None.

Type of Request: Regular submission (extension of currently approved collection).

Number of Respondents: 9.

Average Hours per Response: Initial application: 80 hours; Changes to existing type-approval: 24 hours; Response to a type-approval revocation: 24 hours; Diagnostic and troubleshooting support: 1,066 hours.

Total Annual Burden Hours: 8,680 hours.

Needs and Uses: This request is for extension of a currently approved information collection. The current Code of Federal Regulations (CFR) at title 50, part 600, subpart Q, sets forth the requirements for Enhanced Mobile Transceiver Units (EMTUs) to be type-approved by NMFS for use in federal fisheries programs. These EMTUs can either be satellite-linked systems or cellular-based hardware and software. Respondents for type-approval of vessel monitoring system (VMS) satellite- or cellular-based systems must submit a written type-approval request and electronic copies of supporting materials that include certain required information. The National Marine Fisheries Service (NMFS) Office of Law Enforcement (OLE) uses the information submitted to assess whether an EMTU or EMTU-C meets minimum technical specifications and can be approved for use in the NMFS VMS program. The information currently required to accompany an application for type-approval of VMS satellite-based systems is set forth at 50 CFR 600.1502 through 600.1507. The information required for type-approval of VMS cellular-based systems will be substantially similar and identical except where specifically indicated (e.g., EMTU-Cs will not be required to report the at-sea loss of communications signals, as proposed in 50 CFR 600.1503(e)(5)).

Information requested in the type-approval application for EMTU-Cs and EMTUs includes the information identified in 50 CFR 600, subpart Q, more specifically, 50 CFR 600.1501 through 600.1509. This identified information is also embodied in the Type-Approval Matrix form (available from NMFS OLE) that can be used by a respondent to more easily organize and submit the required information in their type-approval request to NMFS. The information will include information regarding: Characteristics of the EMTU-C or EMTU, Associated entities including manufacturer and sellers, Communication functionalities, Data formats, Data transmission details, Latency requirements, Messaging formats and transmission details, Electronic forms, Data security, Customer service, Durability, and Applicant's data handling requirements.

Affected Public: Business or other for-profit organizations.

Frequency: Variable. Estimated at once every 5 years.

Respondent's Obligation: Required to obtain or retain benefits.

Legal Authority: The Magnuson-Stevens Fishery Conservation and Management Act (Magnuson-Stevens Act) requires that the National Marine Fisheries Service (NMFS) and regional fishery management councils prevent overfishing and requires the collection of reliable data essential to the effective conservation, management, and scientific understanding of the nation's fishery resources, including vessel monitoring systems.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0789.

Sheleen Dumas,
Department PRA Clearance Officer, Office of the Under Secretary for Economic Affairs, Commerce Department.

[FR Doc. 2023-13371 Filed 6-22-23; 8:45 am]

BILLING CODE 3510-22-P